NATIONAL SCIENCE FOUNDATION

Advisory Committee for International Science and Engineering; Notice of Meeting

In accordance with the Federal Advisory Committee Act (Pub. L. 92-463, as amended), the National Science Foundation (NSF) announces the following meeting:

Name and Committee Code: Advisory Committee for International Science and Engineering (#25104).

Date and Time: January 11, 2024; 12:00 p.m.-5:30 p.m. (Eastern Time).

Place: NSF 2415 Eisenhower Avenue, Alexandria, VA 22314 (Virtual).

Connect to the Virtual Meeting: To attend the virtual meeting participants are required to process the meeting registration via Zoom:

Register in advance for the meeting at the Zoom attendee registration link: https://nsf.zoomgov.com/webinar/register/WN_wfWGOPM7QS6J2xBeV-lndQ

After registering, you will receive a confirmation email with a unique link to join the meeting. If you have any login questions, please contact Louis Bailey, OISE IT Specialist: oiseitsupport@nsf.gov.

Type of Meeting: Open.

Contact Person: Street, Christopher, National Science Foundation, 2415 Eisenhower Avenue, Alexandria, VA 22314; Telephone: 703.292.8568/Email: cstreet@nsf.gov.

Purpose of Meeting: To provide advice, recommendations and counsel on major goals and policies pertaining to engineering programs and activities.

Agenda:

Updates on OISE activities

2023 OISE COV Report

OISE's Data Analytics Capabilities

OISE Program Updates

Meet with NSF leadership

Dated: December 15, 2023.
Crystal Robinson,
Committee Management Officer.

[FR Doc. 2023-27950 Filed 12-19-23; 8:45 am]

BILLING CODE 7555-01-P